DEPARTMENT OF EDUCATION

National Board for Education Sciences; Inaugural Meeting

AGENCY: National Board for Education Sciences; Education.

ACTION: Notice of Partially Closed Meeting.

SUMMARY: This notice sets forth the schedule and proposed agenda of a forthcoming meeting of the National Board for Education Sciences. Notice of this meeting is required under Section 10(a)(2) of the Federal Advisory Committee Act. This document is intended to notify the general public of their opportunity to attend the open portion of the meeting. Individuals who will need accommodations for a disability in order to attend the meeting (i.e., interpreting services, assistive listening devices, materials in alternative format) should notify Mary Grace Lucier at (202) 219-2253 by January 28. We will attempt to meet requests after this date, but cannot guarantee availability of the requested accommodation. The meeting site is accessible to individuals with disabilities.

DATES: February 8 and 9, 2005.

Time: On February 8, 9 a.m. to 3 p.m. on February 9, 9 a.m. to 3 p.m.

Location: Room 100, 80 F St., NW., Washington, DC 20208-7564.

FOR FURTHER INFORMATION CONTACT: Mary Grace Lucier, Designated Federal Official, National Board for Education Sciences, Washington, DC 20208. Tel.: (202) 219-2353; fax: (202) 219-1466; e-mail: Mary.Grace.Lucier@ed.gov.

SUPPLEMENTARY INFORMATION: The National Board for Education Sciences is authorized by Section 116 of the Education Sciences Reform Act of 2002. The Board advises the Director of the Institute of Education Sciences (IES) on the establishment of activities to be supported by the Institute, on the funding of applications for grants, contracts, and cooperative agreements for research after the completion of peer review, and reviews and evaluates the work of the Institute. After a swearing-in ceremony on February 8, the Board will introduce their members and hear briefings on government ethics issues, the Federal Advisory Committee Act, and the Board's legislative mandate. The meeting will close to the public from 3-4:30 p.m. under the authority of Section 10(d) of the Federal Advisory Committee Act (Pub. L. 92-463; 5 U.S.C. Appendix 2) and under exemption (6) of Section 552b(c) of the Government in the Sunshine Act (Pub. L. 94-409; 5 U.S.C. 552(b)(6)). There will be a discussion of the qualifications and fitness of candidates for the position of chairman and executive director, which discussion will touch upon matters that would disclose information of a personal nature where disclosure would constitute a clearly unwarranted invasion of personal privacy if conducted in an open session. On February 9, the Board will review the agency budget, hear briefings on selected IES projects, and plan the schedule and agenda for future meetings. A final agenda will be available from Mary Grace Lucier on January 28.

A summary of the activities at the closed session and related matters which are informative to the public consistent with the policy of Title 5 U.S.C. 552b(c) will be available to the public within fourteen days of the meeting. Records will be kept of all Board proceedings and will be available for public inspection at the office of the National Board for Education Sciences, Suite 100, 80 F St. NW., Washington, DC 20208.

Dated: January 18, 2005.
Grover J. Whitehurst,
Director, Institute of Education Sciences.

[FR Doc. 05-1288 Filed 1-24-05; 8:45 am]

BILLING CODE 4000-01-M